DEPARTMENT OF TRANSPORTATION

Federal Highway Administration

[Docket No. FHWA-2015-0012]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on August 1, 2014. We are required to publish this notice in the Federal Register by the Paperwork Reduction Act of 1995.

DATES: Please submit comments by July 20, 2015.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2015-0012.

FOR FURTHER INFORMATION CONTACT: Paul Jodoin, (202) 366-5465, or James Austrich, 202-366-0731, Office of Operations, Federal Highway Administration, Department of Transportation, 1200 New Jersey Avenue SE., Washington, DC 20590. Office hours are from 8 a.m. to 5 p.m., Monday through Friday, except Federal holidays.

SUPPLEMENTARY INFORMATION: Title: National Traffic Incident Management Responder Training Assessment

Background: Three highway injury crashes occur every minute in the United States, putting nearly 39,000 incident responders potentially in harm's way every day. Congestion from these incidents often generates secondary crashes, further increasing traveler delay and frustration, and is the source of up to 25 percent of all traffic delays. The longer incident responders remain at the scene, the greater the risk they, and the traveling public, face. Minimizing the time and resources required for incident clearance is essential to meeting Federal Highway Administration (FHWA) goals for improved safety and reliability.

The second Strategic Highway Research Program (SHRP2) an applied research program authorized by Congress in the Safe, Accountable, Flexible, Efficient Transportation Equity Act: A Legacy for Users (SAFETEA-LU), Section 5210 (Public Law 109-59), and reauthorized in Moving Ahead for Progress in the 21st Century (MAP-21), Sections 52003 and 52005 (Pub. L. 112-141) address some of the most pressing needs related to the nation's highway system. Recognizing the critical safety and operations implications of incident management, SHRP2 developed the National Traffic Incident Management (TIM) Responder Training curriculum. The training curriculum, developed through SHRP2 project numbers L12 and L32A, is designed to reach as many responders as possible through in-person training. In the summer of 2012, the FHWA Office of Operations assumed lead implementation responsibility for the in-person training program, and is currently conducting “train the trainer” sessions throughout the U.S. The Office of Operations also plans to launch an E-Learning Tool (SHRP2 project L32B) that will significantly expand the reach of the program, reaching thousands of additional responders. When fully-deployed, the training will produce a cadre of well-trained responders in each State, able to more quickly reduce the time it takes to clear accidents, offering the benefits of reduced congestion and lost travel time for travelers, as well as improved safety conditions for incident responders and motorists.

The SHRP2 program also identified the need for comprehensive evaluation of the benefits of TIM responder training, and developed an electronic post-course assessment tool (Assessment Tool) through project L32C, to be used to gather and analyze survey information related to TIM responder training. The Assessment Tool and collected survey information will enable participating agencies to assess student learning, to identify actions that can be taken to meet agency emergency response goals, and to evaluate the sufficiency of current agency resources and equipment to meet the goals of successful TIM response. The Assessment Tool will also support the Office of Operations' management of the TIM Responder Training Program by tracking and reporting the number of trainers and trainees reached by the classroom and e-Learning activities. The tool will use a four-level “Kirkpatrick Model” evaluation methodology with survey data collection following both in-person and e-Learning events. Consistent with the Kirkpatrick Model, the Office of Operations intends to survey training participants, their peers, and their supervisors in four phases.

Phase 1 is a reaction survey, sent to the participants immediately after the training session is completed, either in hardcopy or electronic form.

Phase 2 is concurrent with Phase 1 but focused on student learning. The Phase 2 assessment will include survey questions and short quizzes to be answered by the participants before and shortly after the training sessions, in order to gauge student absorption and retention of the course materials. Information will be collected in hardcopy or electronic form.

Phase 3 is a behavior assessment, conducted at least two months following the completion of the training sessions. This phase is designed to assess changes in responder behavior, the relevance of those changes to improved incident response, and their sustainability over time. Information will be collected via survey of training participants, their peers, and their supervisors. Peer and supervisor feedback is essential to obtaining objective, reliable assessments of trainee behavior change. Information will be collected via electronic survey.

Phase 4 assesses organizational change resulting from the training program in the medium and long-terms. Surveys will be distributed electronically to senior management officials of trainee organizations. Initial surveys will be conducted at least three months after training sessions, with annual follow-up surveys for up to three years to gauge long-term effects of the training program.

Respondents: For training participants: Approximately 33,905 training participants in the first year, 36,905 in the second year, 53,905 in the third year—total of approximately 124,715 participants over a three year period. For supervisors: Approximately 3,390 in the first year, 3,690 in the second year, and 5,390 in the third year—total of 12,470 over three years. For senior management: Approximately 1,130 in the first year, 1,230 in the second year, and 1,800 in the third year—4,160 total over three years, including annual follow-up surveys of first and second year organizations. Total estimated respondents per year: Approximately 38,425 in year one, 41,925 in year two, 61,095 in year three—grand total of 141,445 over three years.

Frequency: Annually.

Estimated Average Burden per Response: For training participants: Approximately 45 minutes per participant. For supervisors: Approximately 30 minutes per participant. For senior managers: Approximately 30 minutes per participant.

Estimated Total Annual Burden Hours: For training participants: Approximately 31,179 hours annually. For supervisors: Approximately 2,078 hours annually. For senior managers: Approximately 693 hours annually. Total hours annually: 33,950.

Electronic Access: For access to the docket to read background documents or comments received, go to http://www.regulations.gov. Follow the online instructions for accessing the dockets.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: June 11, 2015.
Michael Howell,
Information Collections Officer.

[FR Doc. 2015-14933 Filed 6-17-15; 8:45 am]

BILLING CODE 4910-22-P